ENVIRONMENTAL PROTECTION AGENCY

[FRL-9971-53-OW]

Notice of Availability of the Deepwater Horizon Oil Spill Louisiana Trustee Implementation Group Draft Restoration Plan and Environmental Assessment #2: Provide and Enhance Recreational Opportunities

AGENCY: Environmental Protection Agency (EPA).

ACTION: Notice of availability; request for public comments.

SUMMARY: In accordance with the Oil Pollution Act of 1990 (OPA) and the National Environmental Policy Act (NEPA), the Federal and State natural resource trustee agencies for the Louisiana Trustee Implementation Group (Louisiana TIG) have prepared a Draft Restoration Plan and Environmental Assessment #2: Provide and Enhance Recreational Opportunities (RP/EA). The Draft RP/EA describes and proposes restoration project alternatives considered by the Louisiana TIG to compensate for recreational use services lost as a result of the Deepwater Horizon oil spill. The Louisiana TIG evaluated these alternatives under criteria set forth in the OPA natural resource damage assessment (NRDA) regulations, and also evaluated the environmental consequences of the restoration alternatives in accordance with NEPA. The proposed projects are consistent with the restoration alternatives selected in the Deepwater Horizon oil spill Final Programmatic Damage Assessment and Restoration Plan/Programmatic Environmental Impact Statement (PDARP/PEIS). The purpose of this notice is to inform the public of the availability of the Draft RP/EA and to seek public comments on the document.

DATES: The Louisiana TIG will consider public comments received on or before January 19, 2018.

Public Meeting: The Louisiana TIG will also take written and verbal comments at the Coastal Protection and Restoration Authority Board Meeting on January 17, 2018; 9:30 a.m.; Louisiana State Capitol, House Committee Room 5, 900 North Third Street, Baton Rouge, LA 70802.

ADDRESSES: Obtaining Documents: You may download the Draft RP/EA at any of the following sites:

• http://www.gulfspillrestoration.noaa.gov

• http://www.la-dwh.com

Alternatively, you may request a CD of the Draft RP/EA (see FOR FURTHER INFORMATION CONTACT). You may also view the document at any of the public facilities listed at http://www.gulfspillrestoration.noaa.gov.

Submitting Comments: You may submit comments on the Draft RP/EA by one of following methods:

• Via the Web: http://www.gulfspillrestoration.noaa.gov/restoration-areas/louisiana.

• Via U.S. Mail: U.S. Fish and Wildlife Service, P.O. Box 49567, Atlanta, GA 30345; or Louisiana Coastal Protection & Restoration Authority, ATTN: Liz Williams, P.O. Box 44027, Baton Rouge, LA 70804.

• In Person: Written and verbal comments may be submitted at the public meeting on January 17, 2018

Once submitted, comments cannot be edited or withdrawn. The Louisiana TIG may publish any comment received on the document. Do not submit electronically any information you consider to be Confidential Business Information (CBI) or other information whose disclosure is restricted by statute. Multimedia submissions (audio, video, etc.) must be accompanied by a written comment. The written comment is considered the official comment and should include discussion of all points you wish to make. The Louisiana TIG will generally not consider comments or comment contents located outside of the primary submission (i.e., on the web, cloud, or other file sharing system). Please be aware that your entire comment, including your personal identifying information, will become part of the public record. Please not that mailed comments must be postmarked on or before the comment deadline of 30 days following publication of this notice to be considered.

FOR FURTHER INFORMATION CONTACT: • Louisiana—Liz Williams at LATIGPublicComments@la.gov.

• EPA—Tim Landers at landers.timothy@epa.gov.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days. The Trustees conducted the natural resource damage assessment for the Deepwater Horizon oil spill under the Oil Pollution Act of 1990 (33 U.S.C. 2701 et seq.). Under OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time restoration to baseline (the resource quality and conditions that would exist if the spill had not occurred) is complete.

The Deepwater Horizon oil spill Trustees are:

• U.S. Environmental Protection Agency (EPA);

• U.S. Department of the Interior (DOI), as represented by the National Park Service, U.S. Fish and Wildlife Service, and Bureau of Land Management;

• National Oceanic and Atmospheric Administration (NOAA), on behalf of the U.S. Department of Commerce;

• U.S. Department of Agriculture (USDA);

• State of Louisiana Coastal Protection and Restoration Authority (CPRA), Oil Spill Coordinator's Office (LOSCO), Department of Environmental Quality (LDEQ), Department of Wildlife and Fisheries (LDWF), and Department of Natural Resources (LDNR);

• State of Mississippi Department of Environmental Quality;

• State of Alabama Department of Conservation and Natural Resources and Geological Survey of Alabama;

• State of Florida Department of Environmental Protection and Fish and Wildlife Conservation Commission; and

• State of Texas Parks and Wildlife Department, General Land Office, and Commission on Environmental Quality.

On April 4, 2016, the Trustees reached and finalized a settlement of their natural resource damage claims with BP in a Consent Decree approved by the United States District Court for the Eastern District of Louisiana. Pursuant to that Consent Decree, restoration projects in the Louisiana Restoration Area are now chosen and managed by the Louisiana TIG. The Louisiana TIG is composed of the following Trustees: CPRA, LOSCO, LDEQ, LDWF, LDNR, EPA, DOI, NOAA, USDA.

Background

In a November 2016 notice posted at http://www.gulfspillrestoration.noaa.gov the Louisiana TIG notified the public that the $22 million originally allocated to the Louisiana Marine Fisheries Enhancement, Research, and Science Center (LMFERSC) in the 2014 Programmatic and Phase III Early Restoration Plan and Early Restoration Programmatic Environmental Impact Statement (Phase III ERP/PEIS) would need to be re-allocated to other restoration projects intended to provide and enhance recreational opportunities. Site issues that arose during planning and development of the LMFERSC had precluded the Louisiana TIG from moving forward with the project. The Louisiana TIG requested restoration project ideas, including in a May 17, 2017, notice posted at http://www.gulfspillrestoration.noaa.gov, to provide and enhance recreational opportunities using the $22 million in early restoration funding.

Overview of the Draft RP/EA

The Draft RP/EA is being released in accordance with OPA, NRDA regulations found in the Code of Federal Regulations (CFR) at 15 CFR part 990, and NEPA (42 U.S.C. 4321 et seq.). In the Draft RP/EA, the Louisiana TIG presents to the public their plan to compensate for recreational use services lost as a result of the Deepwater Horizon oil spill. The Draft RP/EA proposes four restoration project alternatives, evaluated in accordance with OPA and NEPA. The four proposed restoration project alternatives in the Draft RP/EA are as follows:

• Elmer's Island Access

• Island Road Piers

• Statewide Artificial Reefs

• Lake Charles Science Center and Educational Complex

The Draft RP/EA also evaluates a no action alternative. One or more alternatives may be selected for implementation by the Louisiana TIG to compensate for recreational use services lost as a result of the Deepwater Horizon oil spill.

The Louisiana TIG has examined the injuries assessed by the Deepwater Horizon Trustees and evaluated restoration project alternatives to address the injuries. In the Draft RP/EA, the Louisiana TIG presents to the public its plan for providing partial compensation for lost recreational use services in the Louisiana Restoration Area. The proposed project alternatives are intended to continue the process of using restoration funding to restore recreational use services lost as a result of the Deepwater Horizon oil spill. The total estimated cost of the proposed project alternatives is $22 million. Additional restoration planning for lost recreational use in the Louisiana Restoration Area will occur at a later time.

Next Steps

The public is encouraged to review and comment on the Draft RP/EA. A public meeting is scheduled to also help facilitate the public review and comment process. After the public comment period ends, the Louisiana TIG will consider the comments received before issuing a Final RP/EA. A summary of comments received and the Louisiana TIG's responses and any revisions to the document, as appropriate, will be included in the final document.

Administrative Record

The documents comprising the Administrative Record for the Draft RP/EA can be viewed electronically at http://www.doi.gov/deepwaterhorizon/administrativerecord.

Authority

The authority for this action is the Oil Pollution Act of 1990 (33 U.S.C. 2701 et seq.), its implementing NRDA regulations found at 15 CFR part 990, and NEPA (42 U.S.C. 4321 et seq.).

Dated: November 22, 2017.
Benita Best-Wong,
Acting Principal Deputy Assistant Administrator, Office of Water.

[FR Doc. 2017-26565 Filed 12-19-17; 8:45 am]

BILLING CODE 6560-50-P